DEPARTMENT OF LABOR

Employment and Training Administration

Labor Surplus Area Classification Under Executive Orders 12073 and 10582

AGENCY: Employment and Training Administration, Labor.

ACTION: Notice; correction.

SUMMARY: The Department of Labor Employment and Training Administration published a notice, Federal Register, Vol. 75, No. 42, Thursday, March 4, 2010, page 9955, to update the 2010 Labor Surplus Areas annual list published in the Federal Register, Vol. 74, No. 209, Friday, October 30, 2009, pages 56217-56239. This notice did not include the updated Labor Surplus Area list.

DATES: Effective Date: The update of the annual list of labor surplus areas was effective March 4, 2010 for all States, the District of Columbia, and Puerto Rico.

FOR FURTHER INFORMATION CONTACT: Samuel Wright, Office of Workforce Investment, Employment and Training Administration, 200 Constitution Avenue, NW., Room S-4231, Washington, DC 20210. Telephone: (202) 693-2870 (this is not a toll-free number).

Correction: See the updated Labor Surplus Area List.

Signed at Washington, DC this 17th day of March, 2010.
Jane Oates,
Assistant Secretary for Employment and Training Administration.

Labor Surplus Areas—October 1, 2009 Through September 30, 2010
Eligible labor surplus areas | Civil jurisdictions included
ALABAMA
Balance of Dallas County | Dallas County, AL.
Barbour County, AL | Barbour County, AL
Bullock County, AL | Bullock County, AL.
Butler County, AL | Butler County, AL.
Chambers County, AL | Chambers County, AL.
Choctaw County, AL | Choctaw County, AL.
Clarke County, AL | Clarke County, AL.
Conecuh County, AL | Conecuh County, AL.
Coosa County, AL | Coosa County, AL.
Greene County, AL | Greene County, AL.
Lamar County, AL | Lamar County, AL.
Lowndes County, AL | Lowndes County, AL.
Monroe County, AL | Monroe County, AL.
Perry County, AL | Perry County, AL.
Prichard city, AL | Mobile County, AL.
Russell County, AL | Russell County, AL.
Selma city, AL | Dallas County, AL.
Sumter County, AL | Sumter County, AL.
Washington County, AL | Washington County, AL.
Wilcox County, AL | Wilcox County, AL.
Winston County, AL | Winston County, AL.
ALASKA
Aleutians East Borough, AK | Aleutians East Borough, AK.
Bethel Census Area, AK | Bethel Census Area, AK.
Dillingham Census Area, AK | Dillingham Census Area, AK.
Fairbanks city, AK | Fairbanks North Star Borough, AK.
Haines Borough, AK | Haines Borough, AK.
Kenai Peninsula Borough, AK | Kenai Peninsula Borough, AK.
Kodiak Island Borough, AK | Kodiak Island Borough, AK.
Lake and Peninsula Borough, AK | Lake and Peninsula Borough, AK.
Matanuska-Susitna Borough, AK | Matanuska-Susitna Borough, AK.
Nome Census Area, AK | Nome Census Area, AK.
Northwest Arctic Borough, AK | Northwest Arctic Borough, AK.
Prince of Wales-Outer Ketchikan Census Area, AK | Prince of Wales-Outer Ketchikan Census Area, AK.
Skagway-Hoonah-Angoon Census Area, AK | Skagway-Hoonah-Angoon Census Area, AK.
Southeast Fairbanks Census Area, AK | Southeast Fairbanks Census Area, AK.
Valdez-Cordova Census Area, AK | Valdez-Cordova Census Area, AK.
Wade Hampton Census Area, AK | Wade Hampton Census Area, AK.
Wrangell-Petersburg Census Area, AK | Wrangell-Petersburg Census Area, AK.
Yakutat Borough, AK | Yakutat Borough, AK.
Yukon-Koyukuk Census Area, AK | Yukon-Koyukuk Census Area, AK.
ARIZONA
Apache County, AZ | Apache County, AZ.
Balance of Maricopa County, AZ | Maricopa County, AZ.
Balance of Mohave County, AZ | Mohave County, AZ.
Balance of Yuma County, AZ | Yuma County, AZ.
Maricopa city, AZ | Pinal County, AZ.
Navajo County, AZ | Navajo County, AZ.
Santa Cruz County, AZ | Santa Cruz County, AZ.
Yuma city, AZ | Yuma County, AZ.
ARKANSAS
Arkansas County, AR | Arkansas County, AR.
Ashley County, AR | Ashley County, AR.
Bradley County, AR | Bradley County, AR.
Chicot County, AR | Chicot County, AR.
Clay County, AR | Clay County, AR.
Columbia County, AR | Columbia County, AR.
Cross County, AR | Cross County, AR.
Dallas County, AR | Dallas County, AR.
Desha County, AR | Desha County, AR.
Drew County, AR | Drew County, AR.
El Dorado city, AR | Union County, AR.
Hot Springs city, AR | Garland County, AR.
Independence County, AR | Independence County, AR.
Jackson County, AR | Jackson County, AR.
Lafayette County, AR | Lafayette County, AR.
Lawrence County, AR | Lawrence County, AR.
Lee County, AR | Lee County, AR.
Lincoln County, AR | Lincoln County, AR.
Mississippi County, AR | Mississippi County, AR.
Ouachita County, AR | Ouachita County, AR.
Phillips County, AR | Phillips County, AR.
Pine Bluff city, AR | Jefferson County, AR.
Poinsett County, AR | Poinsett County, AR.
Randolph County, AR | Randolph County, AR.
Sharp County, AR | Sharp County, AR.
St. Francis County, AR | St. Francis County, AR.
West Memphis city, AR | Crittenden County, AR.
Woodruff County, AR | Woodruff County, AR.
CALIFORNIA
Adelanto city, CA | San Bernardino County, CA.
Alpine County, CA | Alpine County, CA.
Amador County, CA | Amador County, CA.
Apple Valley town, CA | San Bernardino County, CA.
Atwater city, CA | Merced County, CA.
Azusa city, CA | Los Angeles County, CA.
Balance of Butte County, CA | Butte County, CA.
Balance of Fresno County, CA | Fresno County, CA.
Balance of Humboldt County, CA | Humboldt County, CA.
Balance of Imperial County, CA | Imperial County, CA.
Balance of Kern County, CA | Kern County, CA.
Balance of Kings County, CA | Kings County, CA.
Balance of Madera County, CA | Madera County, CA.
Balance of Merced County, CA | Merced County, CA.
Balance of Monterey County, CA | Monterey County, CA.
Balance of Riverside County, CA | Riverside County, CA.
Balance of San Benito County, CA | San Benito County, CA.
Balance of San Bernardino County, CA | San Bernardino County, CA.
Balance of San Joaquin County, CA | San Joaquin County, CA.
Balance of Shasta County, CA | Shasta County, CA.
Balance of Stanislaus County, CA | Stanislaus County, CA.
Balance of Sutter County, CA | Sutter County, CA.
Balance of Tulare County, CA | Tulare County, CA.
Balance of Yolo County, CA | Yolo County, CA.
Baldwin Park city, CA | Los Angeles County, CA.
Banning city, CA | Riverside County, CA.
Beaumont city, CA | Riverside County, CA.
Bell city, CA | Los Angeles County, CA.
Bell Gardens city, CA | Los Angeles County, CA.
Bellflower city, CA | Los Angeles County, CA.
Calaveras County, CA | Calaveras County, CA.
Calexico city, CA | Imperial County, CA.
Carson city, CA | Los Angeles County, CA.
Cathedral City city, CA | Riverside County, CA.
Ceres city, CA | Stanislaus County, CA.
Chico city, CA | Butte County, CA.
Coachella city, CA | Riverside County, CA.
Colton city, CA | San Bernardino County, CA.
Colusa County, CA | Colusa County, CA.
Compton city, CA | Los Angeles County, CA.
Cudahy city, CA | Los Angeles County, CA.
Del Norte County, CA | Del Norte County, CA.
Delano city, CA | Kern County, CA.
East Palo Alto city, CA | San Mateo County, CA.
El Cajon city, CA | San Diego County, CA.
El Centro city, CA | Imperial County, CA.
El Monte city, CA | Los Angeles County, CA.
Eureka city, CA | Humboldt County, CA.
Fairfield city, CA | Solano County, CA.
Fontana city, CA | San Bernardino County, CA.
Fresno city, CA | Fresno County, CA.
Gilroy city, CA | Santa Clara County, CA.
Glenn County, CA | Glenn County, CA.
Hanford city, CA | Kings County, CA.
Hawthorne city, CA | Los Angeles County, CA.
Hemet city, CA | Riverside County, CA.
Hesperia city, CA | San Bernardino County, CA.
Highland city, CA | San Bernardino County, CA.
Hollister city, CA | San Benito County, CA.
Huntington Park city, CA | Los Angeles County, CA.
Imperial Beach city, CA | San Diego County, CA.
Indio city, CA | Riverside County, CA.
Inglewood city, CA | Los Angeles County, CA.
La Puente city, CA | Los Angeles County, CA.
Lake County, CA | Lake County, CA.
Lake Elsinore city, CA | Riverside County, CA.
Lancaster city, CA | Los Angeles County, CA.
Lassen County, CA | Lassen County, CA.
Lawndale city, CA | Los Angeles County, CA.
Lemon Grove city, CA | San Diego County, CA.
Lincoln city, CA | Placer County, CA.
Lodi city, CA | San Joaquin County, CA.
Lompoc city, CA | Santa Barbara County, CA.
Long Beach city, CA | Los Angeles County, CA.
Los Angeles city, CA | Los Angeles County, CA.
Los Banos city, CA | Merced County, CA.
Lynwood city, CA | Los Angeles County, CA.
Madera city, CA | Madera County, CA.
Manteca city, CA | San Joaquin County, CA.
Mariposa County, CA | Mariposa County, CA.
Maywood city, CA | Los Angeles County, CA.
Merced city, CA | Merced County, CA.
Modesto city, CA | Stanislaus County, CA.
Modoc County, CA | Modoc County, CA.
Montclair city, CA | San Bernardino County, CA.
Montebello city, CA | Los Angeles County, CA.
Monterey Park city, CA | Los Angeles County, CA.
Moreno Valley city, CA | Riverside County, CA.
Morgan Hill city, CA | Santa Clara County, CA.
National City city, CA | San Diego County, CA.
Norwalk city, CA | Los Angeles County, CA.
Oakland city, CA | Alameda County, CA.
Ontario city, CA | San Bernardino County, CA.
Oxnard city, CA | Ventura County, CA.
Palmdale city, CA | Los Angeles County, CA.
Paramount city, CA | Los Angeles County, CA.
Perris city, CA | Riverside County, CA.
Pittsburg city, CA | Contra Costa County, CA.
Plumas County, CA | Plumas County, CA.
Pomona city, CA | Los Angeles County, CA.
Porterville city, CA | Tulare County, CA.
Rancho Cordova city, CA | Sacramento County, CA.
Redding city, CA | Shasta County, CA.
Rialto city, CA | San Bernardino County, CA.
Richmond city, CA | Contra Costa County, CA.
Riverside city, CA | Riverside County, CA.
Sacramento city, CA | Sacramento County, CA.
Salinas city, CA | Monterey County, CA.
San Bernardino city, CA | San Bernardino County, CA.
San Jacinto city, CA | Riverside County, CA.
San Pablo city, CA | Contra Costa County, CA.
Sanger city, CA | Fresno County, CA.
Santa Ana city, CA | Orange County, CA.
Santa Maria city, CA | Santa Barbara County, CA.
Santa Paula city, CA | Ventura County, CA.
Sierra County, CA | Sierra County, CA.
Siskiyou County, CA | Siskiyou County, CA.
Soledad city, CA | Monterey County, CA.
South Gate city, CA | Los Angeles County, CA.
Stanton city, CA | Orange County, CA.
Stockton city, CA | San Joaquin County, CA.
Suisun City city, CA | Solano County, CA.
Tehama County, CA | Tehama County, CA.
Trinity County, CA | Trinity County, CA.
Tulare city, CA | Tulare County, CA.
Tuolumne County, CA | Tuolumne County, CA.
Turlock city, CA | Stanislaus County, CA.
Twentynine Palms city, CA | San Bernardino County, CA.
Vallejo city, CA | Solano County, CA.
Victorville city, CA | San Bernardino County, CA.
Watsonville city, CA | Santa Cruz County, CA.
West Sacramento city, CA | Yolo County, CA.
Woodland city, CA | Yolo County, CA.
Yuba City city, CA | Sutter County, CA.
Yuba County, CA | Yuba County, CA.
COLORADO
Commerce City city, CO | Adams County, CO.
Conejos County, CO | Conejos County, CO.
Costilla County, CO | Costilla County, CO.
Crowley County, CO | Crowley County, CO.
Saguache County, CO | Saguache County, CO.
CONNECTICUT
Ansonia city, CT | Ansonia city, CT.
Bridgeport city, CT | Bridgeport city, CT.
East Hartford town, CT | East Hartford town, CT.
Hartford city, CT | Hartford city, CT.
Meriden city, CT | Meriden city, CT.
New Britain city, CT | New Britain city, CT.
New Haven city, CT | New Haven city, CT.
New London city, CT | New London city, CT.
Waterbury city, CT | Waterbury city, CT.
Windham Town, CT | Windham Town, CT.
DELAWARE
Wilmington city, DE | New Castle County, DE.
DISTRICT OF COLUMBIA
District of Columbia | District of Columbia.
FLORIDA
Balance of Broward County, FL | Broward County, FL.
Balance of Duval County, FL | Duval County, FL.
Balance of Flagler County, FL | Flagler County, FL.
Balance of Marion County, FL | Marion County, FL.
Balance of Palm Beach County, FL | Palm Beach County, FL.
Balance of St. Lucie County, FL | St. Lucie County, FL.
Charlotte County, FL | Charlotte County, FL.
Citrus County, FL | Citrus County, FL.
Fort Pierce city, FL | St. Lucie County, FL.
Hendry County, FL | Hendry County, FL.
Hernando County, FL | Hernando County, FL.
Hialeah city, FL | Miami-Dade County, FL.
Indian River County, FL | Indian River County, FL.
Lee County, FL | Lee County, FL.
Madison County, FL | Madison County, FL.
Miami Gardens city, FL | Miami-Dade County, FL.
Okeechobee County, FL | Okeechobee County, FL.
Palm Coast city, FL | Flagler County, FL.
GEORGIA
Albany city, GA | Dougherty County, GA.
Atkinson County, GA | Atkinson County, GA.
Atlanta city, GA | Fulton and DeKalb Counties.
Augusta-Richmond County (consolidated) city, GA | Richmond County, GA.
Balance of Liberty County, GA | Liberty County, GA.
Balance of Peach County, GA | Peach County, GA.
Baldwin County, GA | Baldwin County, GA.
Ben Hill County, GA | Ben Hill County, GA.
Burke County, GA | Burke County, GA.
Butts County, GA | Butts County, GA.
Calhoun County, GA | Calhoun County, GA.
Chattahoochee County, GA | Chattahoochee County, GA.
Chattooga County, GA | Chattooga County, GA.
Clay County, GA | Clay County, GA.
Clayton County, GA | Clayton County, GA.
Coffee County, GA | Coffee County, GA.
Cook County, GA | Cook County, GA.
Crisp County, GA | Crisp County, GA.
Dalton city, GA | Whitfield County, GA.
Decatur County, GA | Decatur County, GA.
East Point city, GA | Fulton County, GA.
Elbert County, GA | Elbert County, GA.
Emanuel County, GA | Emanuel County, GA.
Hancock County, GA | Hancock County, GA.
Hart County, GA | Hart County, GA.
Heard County, GA | Heard County, GA.
Irwin County, GA | Irwin County, GA.
Jasper County, GA | Jasper County, GA.
Jeff Davis County, GA | Jeff Davis County, GA.
Jefferson County, GA | Jefferson County, GA.
Jenkins County, GA | Jenkins County, GA.
Johnson County, GA | Johnson County, GA.
LaGrange city, GA | Troup County, GA.
Lawrenceville city, GA | Gwinnett County, GA.
Lincoln County, GA | Lincoln County, GA.
Macon City, GA | Bibb and Jones, Counties.
Macon County, GA | Macon County, GA.
McDuffie County, GA | McDuffie County, GA.
Meriwether County, GA | Meriwether County, GA.
Newton County, GA | Newton County, GA.
Quitman County, GA | Quitman County, GA.
Randolph County, GA | Randolph County, GA.
Rome city, GA | Floyd County, GA.
Schley County, GA | Schley County, GA.
Screven County, GA | Screven County, GA.
Seminole County, GA | Seminole County, GA.
Spalding County, GA | Spalding County, GA.
Statesboro city, GA | Bulloch County, GA.
Stewart County, GA | Stewart County, GA.
Sumter County, GA | Sumter County, GA.
Talbot County, GA | Talbot County, GA.
Taliaferro County, GA | Taliaferro County, GA.
Taylor County, GA | Taylor County, GA.
Telfair County, GA | Telfair County, GA.
Terrell County, GA | Terrell County, GA.
Treutlen County, GA | Treutlen County, GA.
Turner County, GA | Turner County, GA.
Twiggs County, GA | Twiggs County, GA.
Upson County, GA | Upson County, GA.
Warren County, GA | Warren County, GA.
Washington County, GA | Washington County, GA.
Wayne County, GA | Wayne County, GA.
Wilcox County, GA | Wilcox County, GA.
Wilkes County, GA | Wilkes County, GA.
IDAHO
Adams County, ID | Adams County, ID.
Benewah County, ID | Benewah County, ID.
Boundary County, ID | Boundary County, ID.
Clearwater County, ID | Clearwater County, ID.
Shoshone County, ID | Shoshone County, ID.
Valley County, ID | Valley County, ID.
ILLINOIS
Alexander County, IL | Alexander County, IL.
Alton city, IL | Madison County, IL.
Balance of Boone County, IL | Boone County, IL.
Balance of Kankakee County, IL | Kankakee County, IL.
Balance of St. Clair County, IL | St. Clair County, IL.
Balance of Vermilion County, IL | Vermilion County, IL.
Balance of Winnebago County, IL | Winnebago County, IL.
Belleville city, IL | St. Clair County, IL.
Belvidere city, IL | Boone County, IL.
Berwyn city, IL | Cook County, IL.
Bond County, IL | Bond County, IL.
Calhoun County, IL | Calhoun County, IL.
Calumet City city, IL | Cook County, IL.
Carpentersville village, IL | Kane County, IL.
Chicago city, IL | Cook County, IL.
Chicago Heights city, IL | Cook County, IL.
Cicero town, IL | Cook County, IL.
Clark County, IL | Clark County, IL.
Clay County, IL | Clay County, IL.
Crawford County, IL | Crawford County, IL.
Cumberland County, IL | Cumberland County, IL.
Danville city, IL | Vermilion County, IL.
Decatur city, IL | Macon County, IL.
Dolton village, IL | Cook County, IL.
East St. Louis city, IL | St. Clair County, IL.
Edgar County, IL | Edgar County, IL.
Elgin city, IL | Cook and Kane Counties, IL.
Fayette County, IL | Fayette County, IL.
Franklin County, IL | Franklin County, IL.
Freeport city, IL | Stephenson County, IL.
Fulton County, IL | Fulton County, IL.
Galesburg city, IL | Knox County, IL.
Gallatin County, IL | Gallatin County, IL.
Granite City city, IL | Madison County, IL.
Grundy County, IL | Grundy County, IL.
Hamilton County, IL | Hamilton County, IL.
Hancock County, IL | Hancock County, IL.
Hardin County, IL | Hardin County, IL.
Harvey city, IL | Cook County, IL.
Henderson County, IL | Henderson County, IL.
Johnson County, IL | Johnson County, IL.
Joliet city, IL | Will County, IL.
Kankakee city, IL | Kankakee County, IL.
La Salle County, IL | La Salle County, IL.
Lansing village, IL | Cook County, IL.
Lawrence County, IL | Lawrence County, IL.
Lee County, IL | Lee County, IL.
Macoupin County, IL | Macoupin County, IL.
Marion County, IL | Marion County, IL.
Mason County, IL | Mason County, IL.
Massac County, IL | Massac County, IL.
Maywood village, IL | Cook County, IL.
Mercer County, IL | Mercer County, IL.
Montgomery County, IL | Montgomery County, IL.
North Chicago city, IL | Lake County, IL.
Ogle County, IL | Ogle County, IL.
Park Forest village, IL | Cook and Will Counties, IL.
Perry County, IL | Perry County, IL.
Pope County, IL | Pope County, IL.
Pulaski County, IL | Pulaski County, IL.
Putnam County, IL | Putnam County, IL.
Randolph County, IL | Randolph County, IL.
Rockford city, IL | Winnebago County, IL.
Round Lake Beach village, IL | Lake County, IL.
Saline County, IL | Saline County, IL.
Stephenson County, IL | Stephenson County, IL.
Union County, IL | Union County, IL.
Wabash County, IL | Wabash County, IL.
Waukegan city, IL | Lake County, IL.
Whiteside County, IL | Whiteside County, IL.
Williamson County, IL | Williamson County, IL.
Zion city, IL | Lake County, IL.
INDIANA
Anderson city, IN | Madison County, IN.
Blackford County, IN | Blackford County, IN.
Clay County, IN | Clay County, IN.
Crawford County, IN | Crawford County, IN.
DeKalb County, IN | DeKalb County, IN.
East Chicago city, IN | Lake County, IN.
Elkhart city, IN | Elkhart County, IN.
Fayette County, IN | Fayette County, IN.
Gary city, IN | Lake County, IN.
Goshen city, IN | Elkhart County, IN.
Hammond city, IN | Lake County, IN.
Henry County, IN | Henry County, IN.
Kokomo city, IN | Howard County, IN.
LaGrange County, IN | LaGrange County, IN.
Lawrence County, IN | Lawrence County, IN.
Marion city, IN | Grant County, IN.
Miami County, IN | Miami County, IN.
Michigan City city, IN | LaPorte County, IN.
Muncie city, IN | Delaware County, IN.
Noble County, IN | Noble County, IN.
Randolph County, IN | Randolph County, IN.
Richmond city, IN | Wayne County, IN.
South Bend city, IN | St. Joseph County, IN.
Starke County, IN | Starke County, IN.
Steuben County, IN | Steuben County, IN.
Terre Haute city, IN | Vigo County, IN.
Vermillion County, IN | Vermillion County, IN.
IOWA
Jasper County, IA | Jasper County, IA.
KANSAS
Kansas City city, KS | Wyandotte County, KS.
Leavenworth city, KS | Leavenworth County, KS.
KENTUCKY
Adair County, KY | Adair County, KY.
Allen County, KY | Allen County, KY.
Balance of Christian County, KY | Christian County, KY.
Bath County, KY | Bath County, KY.
Bell County, KY | Bell County, KY.
Boyle County, KY | Boyle County, KY.
Bracken County, KY | Bracken County, KY.
Breathitt County, KY | Breathitt County, KY.
Breckinridge County, KY | Breckinridge County, KY.
Bullitt County, KY | Bullitt County, KY.
Butler County, KY | Butler County, KY.
Carlisle County, KY | Carlisle County, KY.
Carroll County, KY | Carroll County, KY.
Carter County, KY | Carter County, KY.
Clay County, KY | Clay County, KY.
Crittenden County, KY | Crittenden County, KY.
Cumberland County, KY | Cumberland County, KY.
Edmonson County, KY | Edmonson County, KY.
Elliott County, KY | Elliott County, KY.
Estill County, KY | Estill County, KY.
Fleming County, KY | Fleming County, KY.
Floyd County, KY | Floyd County, KY.
Fulton County, KY | Fulton County, KY.
Gallatin County, KY | Gallatin County, KY.
Grant County, KY | Grant County, KY.
Graves County, KY | Graves County, KY.
Grayson County, KY | Grayson County, KY.
Green County, KY | Green County, KY.
Harlan County, KY | Harlan County, KY.
Hickman County, KY | Hickman County, KY.
Hopkins County, KY | Hopkins County, KY.
Hopkinsville city, KY | Christian County, KY.
Jackson County, KY | Jackson County, KY.
Johnson County, KY | Johnson County, KY.
Knott County, KY | Knott County, KY.
Knox County, KY | Knox County, KY.
Lawrence County, KY | Lawrence County, KY.
Lee County, KY | Lee County, KY.
Leslie County, KY | Leslie County, KY.
Letcher County, KY | Letcher County, KY.
Lewis County, KY | Lewis County, KY.
Lincoln County, KY | Lincoln County, KY.
Lyon County, KY | Lyon County, KY.
Magoffin County, KY | Magoffin County, KY.
Martin County, KY | Martin County, KY.
McCreary County, KY | McCreary County, KY.
McLean County, KY | McLean County, KY.
Meade County, KY | Meade County, KY.
Menifee County, KY | Menifee County, KY.
Metcalfe County, KY | Metcalfe County, KY.
Monroe County, KY | Monroe County, KY.
Montgomery County, KY | Montgomery County, KY.
Morgan County, KY | Morgan County, KY.
Muhlenberg County, KY | Muhlenberg County, KY.
Nelson County, KY | Nelson County, KY.
Nicholas County, KY | Nicholas County, KY.
Owsley County, KY | Owsley County, KY.
Pendleton County, KY | Pendleton County, KY.
Perry County, KY | Perry County, KY.
Powell County, KY | Powell County, KY.
Pulaski County, KY | Pulaski County, KY.
Rockcastle County, KY | Rockcastle County, KY.
Russell County, KY | Russell County, KY.
Spencer County, KY | Spencer County, KY.
Todd County, KY | Todd County, KY.
Trigg County, KY | Trigg County, KY.
Trimble County, KY | Trimble County, KY.
Washington County, KY | Washington County, KY.
Wayne County, KY | Wayne County, KY.
Whitley County, KY | Whitley County, KY.
Wolfe County, KY | Wolfe County, KY.
LOUISIANA
East Carroll Parish, LA | Concordia Parish, LA.
Franklin Parish, LA | De Soto Parish, LA.
Madison Parish, LA | East Carroll Parish, LA.
Morehouse Parish, LA | Franklin Parish, LA.
Red River Parish, LA | Madison Parish, LA.
St. Helena Parish, LA | Morehouse Parish, LA.
St. James Parish, LA | Red River Parish, LA.
Tensas Parish, LA | St. Helena Parish, LA.
West Carroll Parish, LA | St. James Parish, LA.
MAINE
Aroostook County, ME | Aroostook County, ME.
Franklin County, ME | Franklin County, ME.
Oxford County, ME | Oxford County, ME.
Piscataquis County, ME | Piscataquis County, ME.
Somerset County, ME | Somerset County, ME.
Washington County, ME | Washington County, ME.
MARYLAND
Dorchester County, MD | Dorchester County, MD.
Worcester County, MD | Worcester County, MD.
MASSACHUSETTS
Adams town, MA | Adams town, MA.
Athol town, MA | Athol town, MA.
Brockton city, MA | Brockton city, MA.
Fairhaven town, MA | Fairhaven town, MA.
Fall River city, MA | Fall River city, MA.
Fitchburg city, MA | Fitchburg city, MA.
Florida town, MA | Florida town, MA.
Gardner city, MA | Gardner city, MA.
Holyoke city, MA | Holyoke city, MA.
Lawrence city, MA | Lawrence city, MA.
Monroe town, MA | Monroe town, MA.
New Bedford city, MA | New Bedford city, MA.
North Adams city, MA | North Adams city, MA.
Provincetown town, MA | Provincetown town, MA.
Royalston town, MA | Royalston town, MA.
Southbridge town, MA | Southbridge town, MA.
Springfield city, MA | Springfield city, MA.
Templeton town, MA | Templeton town, MA.
Truro town, MA | Truro town, MA.
Warren town, MA | Warren town, MA.
Webster town, MA | Webster town, MA.
Wellfleet town, MA | Wellfleet town, MA.
Westport town, MA | Westport town, MA.
Winchendon town, MA | Winchendon town, MA.
MICHIGAN
Alcona County, MI | Alcona County, MI.
Alger County, MI | Alger County, MI.
Alpena County, MI | Alpena County, MI.
Antrim County, MI | Antrim County, MI.
Arenac County, MI | Arenac County, MI.
Balance of Allegan County, MI | Allegan County, MI.
Balance of Bay County, MI | Bay County, MI.
Balance of Calhoun County, MI | Calhoun County, MI.
Balance of Genesee County, MI | Genesee County, MI.
Balance of Jackson County, MI | Jackson County, MI.
Balance of Macomb County, MI | Macomb County, MI.
Balance of Midland County, MI | Midland County, MI.
Balance of Muskegon County, MI | Muskegon County, MI.
Balance of Oakland County, MI | Oakland County, MI.
Balance of Saginaw County, MI | Saginaw County, MI.
Balance of St. Clair County, MI | St. Clair County, MI.
Baraga County, MI | Baraga County, MI.
Battle Creek city, MI | Calhoun County, MI.
Bay City city, MI | Bay County, MI.
Bedford township (Monroe County), MI | Monroe County, MI.
Benzie County, MI | Benzie County, MI.
Berrien County, MI | Berrien County, MI.
Blackman charter township, MI | Jackson County, MI.
Branch County, MI | Branch County, MI.
Burton city, MI | Genesee County, MI.
Cass County, MI | Cass County, MI.
Charlevoix County, MI | Charlevoix County, MI.
Cheboygan County, MI | Cheboygan County, MI.
Chesterfield township, MI | Macomb County, MI.
Chippewa County, MI | Chippewa County, MI.
Clare County, MI | Clare County, MI.
Clinton township (Macomb County), MI | Macomb County, MI.
Crawford County, MI | Crawford County, MI.
Delta County, MI | Delta County, MI.
Detroit city, MI | Wayne County, MI.
Dickinson County, MI | Dickinson County, MI.
East Lansing city, MI | Ingham County, MI.
Eastpointe city, MI | Macomb County, MI.
Emmet County, MI | Emmet County, MI.
Ferndale city, MI | Oakland County, MI.
Flint city, MI | Genesee County, MI.
Flint township, MI | Genesee County, MI.
Gladwin County, MI | Gladwin County, MI.
Gogebic County, MI | Gogebic County, MI.
Grand Rapids city, MI | Kent County, MI.
Grand Traverse County, MI | Grand Traverse County, MI.
Gratiot County, MI | Gratiot County, MI.
Harrison township, MI | Macomb County, MI.
Highland Park city, MI | Wayne County, MI.
Hillsdale County, MI | Hillsdale County, MI.
Holland city, MI | Allegan County, MI.
Houghton County, MI | Houghton County, MI.
Huron County, MI | Huron County, MI.
Inkster city, MI | Wayne County, MI.
Ionia County, MI | Ionia County, MI.
Iosco County, MI | Iosco County, MI.
Iron County, MI | Iron County, MI.
Jackson city, MI | Jackson County, MI.
Kalamazoo city, MI | Kalamazoo County, MI.
Kalkaska County, MI | Kalkaska County, MI.
Kent County, MI | Kent County, MI.
Keweenaw County, MI | Keweenaw County, MI.
Lake County, MI | Lake County, MI.
Lansing city, MI | Eaton County, MI.
Lapeer County, MI | Lapeer County, MI.
Lenawee County, MI | Lenawee County, MI.
Lincoln Park city, MI | Wayne County, MI.
Luce County, MI | Luce County, MI.
Mackinac County, MI | Mackinac County, MI.
Macomb township, MI | Macomb County, MI.
Madison Heights city, MI | Oakland County, MI.
Manistee County, MI | Manistee County, MI.
Marquette County, MI | Marquette County, MI.
Mason County, MI | Mason County, MI.
Mecosta County, MI | Mecosta County, MI.
Missaukee County, MI | Missaukee County, MI.
Monroe County, MI | Monroe County, MI.
Montcalm County, MI | Montcalm County, MI.
Montmorency County, MI | Montmorency County, MI.
Muskegon city, MI | Muskegon County, MI.
Newaygo County, MI | Newaygo County, MI.
Oak Park city, MI | Oakland County, MI.
Oceana County, MI | Oceana County, MI.
Ogemaw County, MI | Ogemaw County, MI.
Ontonagon County, MI | Ontonagon County, MI.
Osceola County, MI | Osceola County, MI.
Oscoda County, MI | Oscoda County, MI.
Otsego County, MI | Otsego County, MI.
Ottawa County, MI | Ottawa County, MI.
Pontiac city, MI | Oakland County, MI.
Port Huron city, MI | St. Clair County, MI.
Presque Isle County, MI | Presque Isle County, MI.
Romulus city, MI | Wayne County, MI.
Roscommon County, MI | Roscommon County, MI.
Roseville city, MI | Macomb County, MI.
Saginaw city, MI | Saginaw County, MI.
Sanilac County, MI | Sanilac County, MI.
Schoolcraft County, MI | Schoolcraft County, MI.
Shelby charter township (Macomb County), MI | Macomb County, MI.
Shiawassee County, MI | Shiawassee County, MI.
Southfield city, MI | Oakland County, MI.
St. Clair Shores city, MI | Macomb County, MI.
St. Joseph County, MI | St. Joseph County, MI.
Taylor city, MI | Wayne County, MI.
Tuscola County, MI | Tuscola County, MI.
Van Buren County, MI | Van Buren County, MI.
Warren city, MI | Macomb County, MI.
Waterford township, MI | Oakland County, MI.
Wexford County, MI | Wexford County, MI.
Wyandotte city, MI | Wayne County, MI.
Wyoming city, MI | Kent County, MI.
MINNESOTA
Aitkin County, MN | Aitkin County, MN.
Balance of St. Louis County, MN | St. Louis County, MN.
Becker County, MN | Becker County, MN.
Beltrami County, MN | Beltrami County, MN.
Cass County, MN | Cass County, MN.
Chisago County, MN | Chisago County, MN.
Clearwater County, MN | Clearwater County, MN.
Crow Wing County, MN | Crow Wing County, MN.
Grant County, MN | Grant County, MN.
Hubbard County, MN | Hubbard County, MN.
Isanti County, MN | Isanti County, MN.
Itasca County, MN | Itasca County, MN.
Kanabec County, MN | Kanabec County, MN.
Koochiching County, MN | Koochiching County, MN.
Le Sueur County, MN | Le Sueur County, MN.
Mahnomen County, MN | Mahnomen County, MN.
Marshall County, MN | Marshall County, MN.
Meeker County, MN | Meeker County, MN.
Mille Lacs County, MN | Mille Lacs County, MN.
Morrison County, MN | Morrison County, MN.
Pennington County, MN | Pennington County, MN.
Pine County, MN | Pine County, MN.
Red Lake County, MN | Red Lake County, MN.
Wadena County, MN | Wadena County, MN.
MISSISSIPPI
Adams County, MS | Adams County, MS.
Alcorn County, MS | Alcorn County, MS.
Amite County, MS | Amite County, MS.
Attala County, MS | Attala County, MS.
Balance of Lee County, MS | Lee County, MS.
Balance of Washington County, MS | Washington County, MS.
Benton County, MS | Benton County, MS.
Biloxi city, MS | Harrison County, MS.
Bolivar County, MS | Bolivar County, MS.
Calhoun County, MS | Calhoun County, MS.
Carroll County, MS | Carroll County, MS.
Chickasaw County, MS | Chickasaw County, MS.
Choctaw County, MS | Choctaw County, MS.
Claiborne County, MS | Claiborne County, MS.
Clarke County, MS | Clarke County, MS.
Clay County, MS | Clay County, MS.
Coahoma County, MS | Coahoma County, MS.
Columbus city, MS | Lowndes County, MS.
Copiah County, MS | Copiah County, MS.
Franklin County, MS | Franklin County, MS.
George County, MS | George County, MS.
Greene County, MS | Greene County, MS.
Greenville city, MS | Washington County, MS.
Grenada County, MS | Grenada County, MS.
Hattiesburg city, MS | Forrest and Lamar Counties, MS.
Holmes County, MS | Holmes County, MS.
Humphreys County, MS | Humphreys County, MS.
Issaquena County, MS | Issaquena County, MS.
Itawamba County, MS | Itawamba County, MS.
Jackson city, MS | Hinds, Madison and Rankin Counties.
Jasper County, MS | Jasper County, MS.
Jefferson County, MS | Jefferson County, MS.
Jefferson Davis County, MS | Jefferson Davis County, MS.
Kemper County, MS | Kemper County, MS.
Lawrence County, MS | Lawrence County, MS.
Leake County, MS | Leake County, MS.
Leflore County, MS | Leflore County, MS.
Lincoln County, MS | Lincoln County, MS.
Marion County, MS | Marion County, MS.
Marshall County, MS | Marshall County, MS.
Meridian city, MS | Lauderdale County, MS.
Monroe County, MS | Monroe County, MS.
Montgomery County, MS | Montgomery County, MS.
Noxubee County, MS | Noxubee County, MS.
Oktibbeha County, MS | Oktibbeha County, MS.
Panola County, MS | Panola County, MS.
Pascagoula city, MS | Jackson County, MS.
Pearl River County, MS | Pearl River County, MS.
Perry County, MS | Perry County, MS.
Pike County, MS | Pike County, MS.
Pontotoc County, MS | Pontotoc County, MS.
Prentiss County, MS | Prentiss County, MS.
Quitman County, MS | Quitman County, MS.
Sharkey County, MS | Sharkey County, MS.
Sunflower County, MS | Sunflower County, MS.
Tallahatchie County, MS | Tallahatchie County, MS.
Tate County, MS | Tate County, MS.
Tippah County, MS | Tippah County, MS.
Tishomingo County, MS | Tishomingo County, MS.
Tunica County, MS | Tunica County, MS.
Tupelo city, MS | Lee County, MS.
Union County, MS | Union County, MS.
Vicksburg city, MS | Warren County, MS.
Walthall County, MS | Walthall County, MS.
Wayne County, MS | Wayne County, MS.
Webster County, MS | Webster County, MS.
Wilkinson County, MS | Wilkinson County, MS.
Winston County, MS | Winston County, MS.
Yalobusha County, MS | Yalobusha County, MS.
Yazoo County, MS | Yazoo County, MS.
MISSOURI
Barton County, MO | Barton County, MO.
Bates County, MO | Cass County, MO.
Benton County, MO | Benton County, MO.
Butler County, MO | Butler County, MO.
Carter County, MO | Carter County, MO.
Crawford County, MO | Crawford County, MO.
Dallas County, MO | Dallas County, MO.
Dent County, MO | Dent County, MO.
Douglas County, MO | Douglas County, MO.
Dunklin County, MO | Dunklin County, MO.
Franklin County, MO | Franklin County, MO.
Gasconade County, MO | Gasconade County, MO.
Hickory County, MO | Hickory County, MO.
Jackson County, MO | Jackson County, MO.
Kansas City city, MO | Cass, Clay and Platte Counties, MO.
Laclede County, MO | Laclede County, MO.
Lincoln County, MO | Lincoln County, MO.
Linn County, MO | Linn County, MO.
Mississippi County, MO | Mississippi County, MO.
Monroe County, MO | Monroe County, MO.
Montgomery County, MO | Montgomery County, MO.
Morgan County, MO | Morgan County, MO.
New Madrid County, MO | New Madrid County, MO.
Pemiscot County, MO | Pemiscot County, MO.
Reynolds County, MO | Reynolds County, MO.
Ripley County, MO | Ripley County, MO.
Shannon County, MO | Shannon County, MO.
St. Clair County, MO | St. Clair County, MO.
St. Francois County, MO | St. Francois County, MO.
St. Louis city, MO | St. Louis city, MO.
Stoddard County, MO | Stoddard County, MO.
Stone County, MO | Stone County, MO.
Taney County, MO | Taney County, MO.
Warren County, MO | Warren County, MO.
Washington County, MO | Washington County, MO.
Wayne County, MO | Wayne County, MO.
Wright County, MO | Wright County, MO.
MONTANA
Big Horn County, MT | Big Horn County, MT.
Glacier County, MT | Glacier County, MT.
Lincoln County, MT | Lincoln County, MT.
Roosevelt County, MT | Roosevelt County, MT.
Sanders County, MT | Sanders County, MT.
NEBRASKA
Thurston County, NE | Thurston County, NE.
NEVADA
Lyon County, NV | Lyon County, NV.
Mineral County, NV | Mineral County, NV.
Nye County, NV | Nye County, NV.
NEW JERSEY
Atlantic City city, NJ | Atlantic County, NJ.
Balance of Cumberland County, NJ | Cumberland County, NJ.
Bayonne city, NJ | Hudson County, NJ.
Camden city, NJ | Camden County, NJ.
Cape May County, NJ | Cape May County, NJ.
City of Orange township, NJ | Essex County, NJ.
East Orange city, NJ | Essex County, NJ.
Elizabeth city, NJ | Union County, NJ.
Garfield city, NJ | Bergen County, NJ.
Irvington township, NJ | Essex County, NJ.
Manchester township, NJ | Ocean County, NJ.
Millville city, NJ | Cumberland County, NJ.
Neptune township, NJ | Monmouth County, NJ.
Newark city, NJ | Essex County, NJ.
Passaic city, NJ | Passaic County, NJ.
Paterson city, NJ | Passaic County, NJ.
Pennsauken township, NJ | Camden County, NJ.
Perth Amboy city, NJ | Middlesex County, NJ.
Plainfield city, NJ | Union County, NJ.
Trenton city, NJ | Mercer County, NJ.
Union City city, NJ | Hudson County, NJ.
Vineland city, NJ | Cumberland County, NJ.
Winslow township, NJ | Camden County, NJ.
NEW MEXICO
Luna County, NM | Luna County, NM.
Mora County, NM | Mora County, NM.
NEW YORK
Balance of Jefferson County, NY | Jefferson County, NY.
Bronx County, NY | Bronx County, NY.
Buffalo city, NY | Erie County, NY.
Essex County, NY | Essex County, NY.
Franklin County, NY | Franklin County, NY.
Lockport city, NY | Niagara County, NY.
Montgomery County, NY | Montgomery County, NY.
Newburgh city, NY | Orange County, NY.
Niagara Falls city, NY | Niagara County, NY.
Orleans County, NY | Orleans County, NY.
Oswego County, NY | Oswego County, NY.
Rochester city, NY | Monroe County, NY.
Schoharie County, NY | Schoharie County, NY.
St. Lawrence County, NY | St. Lawrence County, NY.
NORTH CAROLINA
Alexander County, NC | Alexander County, NC.
Alleghany County, NC | Alleghany County, NC.
Anson County, NC | Anson County, NC.
Balance of Cumberland County, NC | Cumberland County, NC.
Balance of Davidson County, NC | Davidson County, NC.
Balance of Edgecombe County, NC | Edgecombe County, NC.
Balance of Gaston County, NC | Gaston County, NC.
Balance of Mecklenburg County, NC | Mecklenburg County, NC.
Balance of Nash County, NC | Nash County, NC.
Balance of Pitt County, NC | Pitt County, NC.
Balance of Rowan County, NC | Rowan County, NC.
Balance of Wilson County, NC | Wilson County, NC.
Beaufort County, NC | Beaufort County, NC.
Bertie County, NC | Bertie County, NC.
Bladen County, NC | Bladen County, NC.
Burke County, NC | Burke County, NC.
Caldwell County, NC | Caldwell County, NC.
Caswell County, NC | Caswell County, NC.
Catawba County, NC | Catawba County, NC.
Cherokee County, NC | Cherokee County, NC.
Chowan County, NC | Chowan County, NC.
Cleveland County, NC | Cleveland County, NC.
Columbus County, NC | Columbus County, NC.
Gastonia city, NC | Gaston County, NC.
Graham County, NC | Graham County, NC.
Halifax County, NC | Halifax County, NC.
Hyde County, NC | Hyde County, NC.
Kinston city, NC | Lenoir County, NC.
Lee County, NC | Lee County, NC.
McDowell County, NC | McDowell County, NC.
Mitchell County, NC | Mitchell County, NC.
Montgomery County, NC | Montgomery County, NC.
Northampton County, NC | Northampton County, NC.
Person County, NC | Person County, NC.
Richmond County, NC | Richmond County, NC.
Robeson County, NC | Robeson County, NC.
Rockingham County, NC | Rockingham County, NC.
Rocky Mount city, NC | Edgecombe and Nash Counties, NC.
Rutherford County, NC | Rutherford County, NC.
Salisbury city, NC | Rowan County, NC.
Scotland County, NC | Scotland County, NC.
Surry County, NC | Surry County, NC.
Swain County, NC | Swain County, NC.
Thomasville city, NC | Davidson County, NC.
Tyrrell County, NC | Tyrrell County, NC.
Vance County, NC | Vance County, NC.
Warren County, NC | Warren County, NC.
Washington County, NC | Washington County, NC.
Wilkes County, NC | Wilkes County, NC.
Wilson city, NC | Wilson County, NC.
Yancey County, NC | Yancey County, NC.
NORTH DAKOTA
Benson County, ND | Benson County, ND.
Rolette County, ND | Rolette County, ND.
OHIO
Adams County, OH | Adams County, OH.
Akron city, OH | Summit County, OH.
Ashland County, OH | Ashland County, OH.
Ashtabula County, OH | Ashtabula County, OH.
Athens County, OH | Athens County, OH.
Balance of Allen County, OH | Allen County, OH.
Balance of Erie County, OH | Erie County, OH.
Balance of Lorain County, OH | Lorain County, OH.
Balance of Lucas County, OH | Lucas County, OH.
Balance of Montgomery County, OH | Montgomery County, OH.
Balance of Muskingum County, OH | Muskingum County, OH.
Balance of Richland County, OH | Richland County, OH.
Balance of Trumbull County, OH | Trumbull County, OH.
Balance of Wood County, OH | Wood County, OH.
Barberton city, OH | Summit County, OH.
Brook Park city, OH | Cuyahoga County, OH.
Brown County, OH | Brown County, OH.
Canton city, OH | Stark County, OH.
Carroll County, OH | Carroll County, OH.
Champaign County, OH | Champaign County, OH.
Cleveland city, OH | Cuyahoga County, OH.
Columbiana County, OH | Columbiana County, OH.
Coshocton County, OH | Coshocton County, OH.
Crawford County, OH | Crawford County, OH.
Dayton city, OH | Montgomery County, OH.
Defiance County, OH | Defiance County, OH.
East Cleveland city, OH | Cuyahoga County, OH.
Elyria city, OH | Lorain County, OH.
Euclid city, OH | Cuyahoga County, OH.
Fairborn city, OH | Greene County, OH.
Fulton County, OH | Fulton County, OH.
Gallia County, OH | Gallia County, OH.
Garfield Heights city, OH | Cuyahoga County, OH.
Guernsey County, OH | Guernsey County, OH.
Hardin County, OH | Hardin County, OH.
Harrison County, OH | Harrison County, OH.
Henry County, OH | Henry County, OH.
Highland County, OH | Highland County, OH.
Hocking County, OH | Hocking County, OH.
Huber Heights city, OH | Montgomery County, OH.
Huron County, OH | Huron County, OH.
Jackson County, OH | Jackson County, OH.
Jefferson County, OH | Jefferson County, OH.
Lima city, OH | Allen County, OH.
Lorain city, OH | Lorain County, OH.
Mansfield city, OH | Richland County, OH.
Maple Heights city, OH | Cuyahoga County, OH.
Marion city, OH | Marion County, OH.
Massillon city, OH | Stark County, OH.
Meigs County, OH | Meigs County, OH.
Middletown city, OH | Butler County, OH.
Monroe County, OH | Monroe County, OH.
Morgan County, OH | Morgan County, OH.
Morrow County, OH | Morrow County, OH.
Noble County, OH | Noble County, OH.
Ottawa County, OH | Ottawa County, OH.
Parma city, OH | Cuyahoga County, OH.
Perry County, OH | Perry County, OH.
Pickaway County, OH | Pickaway County, OH.
Pike County, OH | Pike County, OH.
Preble County, OH | Preble County, OH.
Riverside city, OH | Montgomery County, OH.
Ross County, OH | Ross County, OH.
Sandusky city, OH | Erie County, OH.
Sandusky County, OH | Sandusky County, OH.
Scioto County, OH | Scioto County, OH.
Seneca County, OH | Seneca County, OH.
Springfield city, OH | Clark County, OH.
Toledo city, OH | Lucas County, OH.
Trotwood city, OH | Montgomery County, OH.
Van Wert County, OH | Van Wert County, OH.
Vinton County, OH | Vinton County, OH.
Warren city, OH | Trumbull County, OH.
Williams County, OH | Williams County, OH.
Wyandot County, OH | Wyandot County, OH.
Xenia city, OH | Greene County, OH.
Youngstown city, OH | Mahoning County, OH.
Zanesville city, OH | Muskingum County, OH.
OKLAHOMA
McCurtain County, OK | McCurtain County, OK.
OREGON
Albany city, OR | Linn County, OR.
Baker County, OR | Baker County, OR.
Balance of Jackson County, OR | Jackson County, OR.
Balance of Josephine County, OR | Josephine County, OR.
Balance of Lane County, OR | Lane County, OR.
Balance of Linn County, OR | Linn County, OR.
Columbia County, OR | Columbia County, OR.
Coos County, OR | Coos County, OR.
Crook County, OR | Crook County, OR.
Curry County, OR | Curry County, OR.
Deschutes County, OR | Deschutes County, OR.
Douglas County, OR | Douglas County, OR.
Grant County, OR | Grant County, OR.
Grants Pass city, OR | Josephine County, OR.
Harney County, OR | Harney County, OR.
Jefferson County, OR | Jefferson County, OR.
Klamath County, OR | Klamath County, OR.
Lake County, OR | Lake County, OR.
Malheur County, OR | Malheur County, OR.
Medford city, OR | Jackson County, OR.
Springfield city, OR | Lane County, OR.
Union County, OR | Union County, OR.
Wallowa County, OR | Wallowa County, OR.
PENNSYLVANIA
Allentown city, PA | Lehigh County, PA.
Bedford County, PA | Bedford County, PA.
Cameron County, PA | Cameron County, PA.
Chester city, PA | Delaware County, PA.
Forest County, PA | Forest County, PA.
Fulton County, PA | Fulton County, PA.
Hazleton city, PA | Luzerne County, PA.
Johnstown city, PA | Cambria County, PA.
McKeesport city, PA | Allegheny County, PA.
Mercer County, PA | Mercer County, PA.
New Castle city, PA | Lawrence County, PA.
Philadelphia County/city, PA | Philadelphia County/city, PA.
Potter County, PA | Potter County, PA.
Reading city, PA | Berks County, PA.
York city, PA | York County, PA.
PUERTO RICO
Adjuntas Municipio, PR | Adjuntas Municipio, PR.
Aguada Municipio, PR | Aguada Municipio, PR.
Aguadilla Municipio, PR | Aguadilla Municipio, PR.
Aguas Buenas Municipio, PR | Aguas Buenas Municipio, PR.
Aibonito Municipio, PR | Aibonito Municipio, PR.
Anasco Municipio, PR | Anasco Municipio, PR.
Arecibo Municipio, PR | Arecibo Municipio, PR.
Arroyo Municipio, PR | Arroyo Municipio, PR.
Barceloneta Municipio, PR | Barceloneta Municipio, PR.
Barranquitas Municipio, PR | Barranquitas Municipio, PR.
Bayamon Municipio, PR | Bayamon Municipio, PR.
Cabo Rojo Municipio, PR | Cabo Rojo Municipio, PR.
Caguas Municipio, PR | Caguas Municipio, PR.
Camuy Municipio, PR | Camuy Municipio, PR.
Canovanas Municipio, PR | Canovanas Municipio, PR.
Carolina Municipio, PR | Carolina Municipio, PR.
Catano Municipio, PR | Catano Municipio, PR.
Cayey Municipio, PR | Cayey Municipio, PR.
Ceiba Municipio, PR | Ceiba Municipio, PR.
Ciales Municipio, PR | Ciales Municipio, PR.
Cidra Municipio, PR | Cidra Municipio, PR.
Coamo Municipio, PR | Coamo Municipio, PR.
Comerio Municipio, PR | Comerio Municipio, PR.
Corozal Municipio, PR | Corozal Municipio, PR.
Culebra Municipio, PR | Culebra Municipio, PR.
Dorado Municipio, PR | Dorado Municipio, PR.
Fajardo Municipio, PR | Fajardo Municipio, PR.
Florida Municipio, PR | Florida Municipio, PR.
Guanica Municipio, PR | Guanica Municipio, PR.
Guayama Municipio, PR | Guayama Municipio, PR.
Guayanilla Municipio, PR | Guayanilla Municipio, PR.
Guaynabo Municipio, PR | Guaynabo Municipio, PR.
Gurabo Municipio, PR | Gurabo Municipio, PR.
Hatillo Municipio, PR | Hatillo Municipio, PR.
Hormigueros Municipio, PR | Hormigueros Municipio, PR.
Humacao Municipio, PR | Humacao Municipio, PR.
Isabela Municipio, PR | Isabela Municipio, PR.
Jayuya Municipio, PR | Jayuya Municipio, PR.
Juana Diaz Municipio, PR | Juana Diaz Municipio, PR.
Juncos Municipio, PR | Juncos Municipio, PR.
Lajas Municipio, PR | Lajas Municipio, PR.
Lares Municipio, PR | Lares Municipio, PR.
Las Marias Municipio, PR | Las Marias Municipio, PR.
Las Piedras Municipio, PR | Las Piedras Municipio, PR.
Loiza Municipio, PR | Loiza Municipio, PR.
Luquillo Municipio, PR | Luquillo Municipio, PR.
Manati Municipio, PR | Manati Municipio, PR.
Maricao Municipio, PR | Maricao Municipio, PR.
Maunabo Municipio, PR | Maunabo Municipio, PR.
Mayaguez Municipio, PR | Mayaguez Municipio, PR.
Moca Municipio, PR | Moca Municipio, PR.
Morovis Municipio, PR | Morovis Municipio, PR.
Naguabo Municipio, PR | Naguabo Municipio, PR.
Naranjito Municipio, PR | Naranjito Municipio, PR.
Orocovis Municipio, PR | Orocovis Municipio, PR.
Patillas Municipio, PR | Patillas Municipio, PR.
Penuelas Municipio, PR | Penuelas Municipio, PR.
Ponce Municipio, PR | Ponce Municipio, PR.
Quebradillas Municipio, PR | Quebradillas Municipio, PR.
Rincon Municipio, PR | Rincon Municipio, PR.
Rio Grande Municipio, PR | Rio Grande Municipio, PR.
Sabana Grande Municipio, PR | Sabana Grande Municipio, PR.
Salinas Municipio, PR | Salinas Municipio, PR.
San German Municipio, PR | San German Municipio, PR.
San Juan Municipio, PR | San Juan Municipio, PR.
San Lorenzo Municipio, PR | San Lorenzo Municipio, PR.
San Sebastian Municipio, PR | San Sebastian Municipio, PR.
Santa Isabel Municipio, PR | Santa Isabel Municipio, PR.
Toa Alta Municipio, PR | Toa Alta Municipio, PR.
Toa Baja Municipio, PR | Toa Baja Municipio, PR.
Trujillo Alto Municipio, PR | Trujillo Alto Municipio, PR.
Utuado Municipio, PR | Utuado Municipio, PR.
Vega Alta Municipio, PR | Vega Alta Municipio, PR.
Vega Baja Municipio, PR | Vega Baja Municipio, PR.
Vieques Municipio, PR | Vieques Municipio, PR.
Villalba Municipio, PR | Villalba Municipio, PR.
Yabucoa Municipio, PR | Yabucoa Municipio, PR.
Yauco Municipio, PR | Yauco Municipio, PR.
RHODE ISLAND
Central Falls city, RI | Central Falls city, RI.
Cranston city, RI | Cranston city, RI.
East Providence city, RI | East Providence city, RI.
Johnston town, RI | Johnston town, RI.
North Providence town, RI | North Providence town, RI.
Pawtucket city, RI | Pawtucket city, RI.
Providence city, RI | Providence city, RI.
West Warwick town, RI | West Warwick town, RI.
Woonsocket city, RI | Woonsocket city, RI.
SOUTH CAROLINA
Abbeville County, SC | Abbeville County, SC.
Aiken city, SC | Aiken County, SC.
Allendale County, SC | Allendale County, SC.
Anderson city, SC | Anderson County, SC.
Balance of Sumter County, SC | Sumter County, SC.
Bamberg County, SC | Bamberg County, SC.
Barnwell County, SC | Barnwell County, SC.
Calhoun County, SC | Calhoun County, SC.
Cherokee County, SC | Cherokee County, SC.
Chester County, SC | Chester County, SC.
Chesterfield County, SC | Chesterfield County, SC.
Clarendon County, SC | Clarendon County, SC.
Colleton County, SC | Colleton County, SC.
Columbia city, SC | Richland County, SC.
Darlington County, SC | Darlington County, SC.
Dillon County, SC | Dillon County, SC.
Edgefield County, SC | Edgefield County, SC.
Fairfield County, SC | Fairfield County, SC.
Florence city, SC | Florence County, SC.
Georgetown County, SC | Georgetown County, SC.
Goose Creek city, SC | Berkeley County, SC.
Greenville city, SC | Greenville County, SC.
Greenwood County, SC | Greenwood County, SC.
Hampton County, SC | Hampton County, SC.
Lancaster County, SC | Lancaster County, SC.
Laurens County, SC | Laurens County, SC.
Lee County, SC | Lee County, SC.
Marion County, SC | Marion County, SC.
Marlboro County, SC | Marlboro County, SC.
McCormick County, SC | McCormick County, SC.
Myrtle Beach city, SC | Horry County, SC.
Newberry County, SC | Newberry County, SC.
Oconee County, SC | Oconee County, SC.
Orangeburg County, SC | Orangeburg County, SC.
Rock Hill city, SC | York County, SC.
Spartanburg city, SC | Spartanburg County, SC.
Summerville town, SC | Charleston and Dorchester Counties, SC.
Sumter city, SC | Sumter County, SC.
Union County, SC | Union County, SC.
Williamsburg County, SC | Williamsburg County, SC.
SOUTH DAKOTA
Buffalo County, SD | Buffalo County, SD.
Dewey County, SD | Dewey County, SD.
Shannon County, SD | Shannon County, SD.
Todd County, SD | Todd County, SD.
TENNESSEE
Balance of Maury County, TN | Maury County, TN.
Benton County, TN | Benton County, TN.
Bledsoe County, TN | Bledsoe County, TN.
Campbell County, TN | Campbell County, TN.
Carroll County, TN | Carroll County, TN.
Claiborne County, TN | Claiborne County, TN.
Clay County, TN | Clay County, TN.
Cleveland city, TN | Bradley County, TN.
Cocke County, TN | Cocke County, TN.
Columbia city, TN | Maury County, TN.
Cookeville city, TN | Putnam County, TN.
Crockett County, TN | Crockett County, TN.
Cumberland County, TN | Cumberland County, TN.
Decatur County, TN | Decatur County, TN.
Dyer County, TN | Dyer County, TN.
Fayette County, TN | Fayette County, TN.
Fentress County, TN | Fentress County, TN.
Gallatin city, TN | Sumner County, TN.
Gibson County, TN | Gibson County, TN.
Giles County, TN | Giles County, TN.
Grainger County, TN | Grainger County, TN.
Greene County, TN | Greene County, TN.
Grundy County, TN | Grundy County, TN.
Hancock County, TN | Hancock County, TN.
Hardeman County, TN | Hardeman County, TN.
Hardin County, TN | Hardin County, TN.
Haywood County, TN | Haywood County, TN.
Henderson County, TN | Henderson County, TN.
Henry County, TN | Henry County, TN.
Hickman County, TN | Hickman County, TN.
Houston County, TN | Houston County, TN.
Humphreys County, TN | Humphreys County, TN.
Jackson city, TN | Madison County, TN.
Jackson County, TN | Jackson County, TN.
Johnson County, TN | Johnson County, TN.
Kingsport city, TN | Hawkins and Sullivan Counties, TN.
Knoxville city, TN | Knox County, TN.
Lake County, TN | Lake County, TN.
Lauderdale County, TN | Lauderdale County, TN.
Lawrence County, TN | Lawrence County, TN.
Lewis County, TN | Lewis County, TN.
Macon County, TN | Macon County, TN.
Marion County, TN | Marion County, TN.
Marshall County, TN | Marshall County, TN.
Maryville city, TN | Blount County, TN.
McMinn County, TN | McMinn County, TN.
McNairy County, TN | McNairy County, TN.
Meigs County, TN | Meigs County, TN.
Memphis city, TN | Shelby County, TN.
Monroe County, TN | Monroe County, TN.
Morgan County, TN | Morgan County, TN.
Morristown city, TN | Hamblen County, TN.
Obion County, TN | Obion County, TN.
Overton County, TN | Overton County, TN.
Perry County, TN | Perry County, TN.
Pickett County, TN | Pickett County, TN.
Polk County, TN | Polk County, TN.
Rhea County, TN | Rhea County, TN.
Scott County, TN | Scott County, TN.
Sequatchie County, TN | Sequatchie County, TN.
Smith County, TN | Smith County, TN.
Stewart County, TN | Stewart County, TN.
Tipton County, TN | Tipton County, TN.
Trousdale County, TN | Trousdale County, TN.
Unicoi County, TN | Unicoi County, TN.
Van Buren County, TN | Van Buren County, TN.
Warren County, TN | Warren County, TN.
Wayne County, TN | Wayne County, TN.
Weakley County, TN | Weakley County, TN.
White County, TN | White County, TN.
TEXAS
Balance of Cameron County, TX | Cameron County, TX.
Balance of Coryell County, TX | Coryell County, TX.
Balance of Dallas County, TX | Dallas County, TX.
Balance of El Paso County, TX | El Paso County, TX.
Balance of Hidalgo County, TX | Hidalgo County, TX.
Balance of Maverick County, TX | Maverick County, TX.
Balance of Val Verde County, TX | Val Verde County, TX.
Balance of Webb County, TX | Webb County, TX.
Baytown city, TX | Harris County, TX.
Brownsville city, TX | Cameron County, TX.
Coke County, TX | Coke County, TX.
Dimmit County, TX | Dimmit County, TX.
Eagle Pass city, TX | Maverick County, TX.
Houston County, TX | Houston County, TX.
Lancaster city, TX | Dallas County, TX.
Loving County, TX | Loving County, TX.
Matagorda County, TX | Matagorda County, TX.
Newton County, TX | Newton County, TX.
Port Arthur city, TX | Jefferson and Orange Counties, TX.
Presidio County, TX | Presidio County, TX.
Sabine County, TX | Sabine County, TX.
San Juan city, TX | Hidalgo County, TX.
Socorro city, TX | El Paso County, TX.
Starr County, TX | Starr County, TX.
Texas City city, TX | Galveston County, TX.
Weslaco city, TX | Hidalgo County, TX.
Willacy County, TX | Willacy County, TX.
Zavala County, TX | Zavala County, TX.
VERMONT
Orleans County, VT | Orleans County, VT.
VIRGINIA
Covington city, VA | Covington city, VA.
Danville city, VA | Danville city, VA.
Emporia city, VA | Emporia city, VA.
Halifax County, VA | Halifax County, VA.
Henry County, VA | Henry County, VA.
Martinsville city, VA | Martinsville city, VA.
Petersburg city, VA | Petersburg city, VA.
Pittsylvania County, VA | Pittsylvania County, VA.
Williamsburg city, VA | Williamsburg city, VA.
WASHINGTON
Balance of Cowlitz County, WA | Cowlitz County, WA.
Bremerton city, WA | Kitsap County, WA.
Clallam County, WA | Clallam County, WA.
Clark County, WA | Clark County, WA.
Columbia County, WA | Columbia County, WA.
Ferry County, WA | Ferry County, WA.
Grays Harbor County, WA | Grays Harbor County, WA.
Klickitat County, WA | Klickitat County, WA.
Lewis County, WA | Lewis County, WA.
Longview city, WA | Cowlitz County, WA.
Mason County, WA | Mason County, WA.
Okanogan County, WA | Okanogan County, WA.
Pacific County, WA | Pacific County, WA.
Pasco city, WA | Franklin County, WA.
Pend Oreille County, WA | Pend Oreille County, WA.
Skamania County, WA | Skamania County, WA.
Stevens County, WA | Stevens County, WA.
Wahkiakum County, WA | Wahkiakum County, WA.
Yakima County, WA | Yakima County, WA.
WEST VIRGINIA
Calhoun County, WV | Calhoun County, WV.
Clay County, WV | Clay County, WV.
Mason County, WV | Mason County, WV.
McDowell County, WV | McDowell County, WV.
Pocahontas County, WV | Pocahontas County, WV.
Wetzel County, WV | Wetzel County, WV.
WISCONSIN
Adams County, WI | Adams County, WI.
Bayfield County, WI | Bayfield County, WI.
Beloit city, WI | Rock County, WI.
Burnett County, WI | Burnett County, WI.
Forest County, WI | Forest County, WI.
Green Bay city, WI | Brown County, WI.
Iron County, WI | Iron County, WI.
Janesville city, WI | Rock County, WI.
Menominee County, WI | Menominee County, WI.
Milwaukee city, WI | Milwaukee County, WI.
Racine city, WI | Racine County, WI.
Rusk County, WI | Rusk County, WI.
Sawyer County, WI | Sawyer County, WI.
Washburn County, WI | Washburn County, WI.

[FR Doc. 2010-6207 Filed 3-19-10; 8:45 am]

BILLING CODE P